CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Pub. L. 104-13, (44 U.S.C. Chapter 35). Copies of this ICR, with applicable supporting documentation, may be obtained by calling the Corporation for National and Community Service, Amy Cohen, at (202) 606-5000, extension 484, (ACohen@cns.gov); (TTY/TDD) at (202) 606-5256 between the hours of 9 a.m. and 4 p.m. Eastern Standard Time, Monday through Friday.

ADDRESSES: Comments should be sent to the Office of Management and Budget, Office of Information and Regulatory Affairs, Room 10235, Attn: Ms. Fumie Yokota, OMB Desk Officer for the Corporation for National and Community Service, Washington, DC 20503, within 30 days from the date of publication in this Federal Register.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Description

The Corporation seeks public comment on the forms, the instructions for the forms, and the instructions for the narrative portion of the application instructions entitled:

a. Learn and Serve America: Higher Education Application Instructions; and

b. Learn and Serve America: School and Community-Based Program Application Instructions.

The Corporation publishes application guidelines and notices of funding availability that include information about the funding and requirements. The application instructions provide the information, instructions and forms that potential applicants need to complete an application to the Corporation for funding.

The Corporation has recently developed an electronic grants management system that meets the requirements of Public Law 106-107. As part of the development process, the Corporation is redesigning its application forms and instructions to reflect the electronic system design.

Part I

Type of Review: Revised collection.

Agency: Corporation for National and Community Service.

Title: Learn and Serve America Higher Education Application Instructions.

OMB Number: 3045-0046.

Agency Number: None.

Affected Public: Eligible applicants to the Corporation for funding.

Total Respondents: 400 respondents.

Frequency: Once per year.

Average Time Per Response: Six (6) hours.

Estimated Total Burden Hours: 2,400 hours.

Total Burden Cost (capital/startup): None.

Total Burden Cost (operating/maintenance): None.

Part II

Type of Review: Revised collection.

Agency: Corporation for National and Community Service.

Title: Learn and Serve America School and Community-Based Program Application Instructions.

OMB Number: 3045-0045.

Agency Number: None.

Affected Public: Eligible applicants to the Corporation for funding.

Total Respondents: 225 respondents.

Frequency: Annually.

Average Time Per Response: Ten (10) hours.

Estimated Total Burden Hours: 2,250 hours.

Total Burden Cost (capital/startup): None.

Total Burden Cost (operating/maintenance): None.

Dated: February 25, 2003.
Amy Cohen,
Director, Learn and Serve America.

[FR Doc. 03-4795 Filed 2-27-03; 8:45 am]

BILLING CODE 6050-$$-P